DEPARTMENT OF DEFENSE

Office of the Secretary

[Docket ID DoD-2014-OS-0142]

Privacy Act of 1974; System of Records

AGENCY: Office of the Secretary of Defense, DoD.

ACTION: Notice to alter a System of Records.

SUMMARY: The Office of the Secretary of Defense proposes to alter a system of records, DHA 14, entitled “Computer/Electronic Accommodations Program” in its inventory of record systems subject to the Privacy Act of 1974, as amended. This system is used to administer a centrally funded program that provides assistive (computer/electronic) technology solutions to individuals with hearing, visual, dexterity, cognitive, and/or communications impairments in the form of an accessible work environment. The system documents and tracks provided computer/electronic accommodations. Used as a management tool for statistical analysis, tracking, reporting, evaluating program effectiveness, and for conducting research.

DATES: Comments will be accepted on or before November 19, 2014. This proposed action will be effective the date following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site at http://dpclo.defense.gov/.

The proposed system report, as required by U.S.C. 552a(r) of the Privacy Act of 1974, as amended, was submitted on October 9, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 14, 2014.
Aaron Siegel,
Alternate OSD Federal Register Liaison Officer, Department of Defense.

DHA 14

System name:

Computer/Electronic Accommodations Program (August 11, 2011, 76 FR 49753).

Changes:

System identifier:

Delete entry and replace with “DHRA 15 DoD.”

* * * * *

System location:

Delete entry and replace with “Computer/Electronic Accommodations Program, Defense Manpower Data Center, 400 Gigling Road, Seaside, CA 93955-6771.”

* * * * *

Categories of records in the system:

Delete entry and replace with “Full name; prior assistive technology solutions provided to the individual; work email, mailing address, and telephone number; Federal agency; Computer/Electronic Accommodations Program (CAP) request number; disability data; verification of disability; history of accommodations being sought, and their disposition, and other documentation used in support of the request for an assistive technology solution. Product and vendor contact information includes vendor name and address, vendor alias, phone number, fax number, email address, web address, order submission preference, orders, invoices, declination, and cancellation data for the product and identification of vendors, vendor products used, and product costs.”

* * * * *

Purpose(s):

Delete entry and replace with “To administer a centrally funded program that provides assistive (computer/electronic) technology solutions to individuals with hearing, visual, dexterity, cognitive, and/or communications impairments in the form of an accessible work environment. The system documents and tracks provided computer/electronic accommodations. Used as a management tool for statistical analysis, tracking, reporting, evaluating program effectiveness, and for conducting research.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

To Federal Government agencies participating in the CAP for purposes of providing information as necessary to permit the agency to carry out its responsibilities under the program.

To commercial vendors for purposes of providing information to permit the vendor to identify and provide assistive technology solutions for individuals with disabilities.

The DoD Blanket Routine Uses set forth at the beginning of the Office of the Secretary of Defense (OSD) compilation of systems of records notices may apply to this system.”

Policies and practices for storing, retrieving, accessing, retaining, and disposing of records in the system:

Storage:

Delete entry and replace with “Electronic storage media.”

Retrievability:

Delete entry and replace with “Full name, CAP request number, and work telephone number.”

Safeguards:

Delete entry and replace with “Records are maintained in controlled areas accessible only to authorized DoD personnel, including system users, developers, and system administrators, and authorized contractors. Access to personal information is further restricted by the use of the Common Access Card and user ID/passwords, intrusion detection system, encryption, firewalls, virtual private network, and DoD public key infrastructure certificates. Records are maintained in a controlled facility where physical entry is restricted by the use of cipher locks, guards, and closed circuit TV. Administrative procedures, including periodic security audits and methods to ensure only authorized personnel access Personally Identifiable Information (PII).”

Retention and disposal:

Delete entry and replace with “Destroyed three (3) years after employee's separation from the agency or all appeals are concluded, whichever is later.”

System manager(s) and address:

Delete entry and replace with “Senior Program Manager, Computer/Electronic Accommodations Program, 1700 N. Moore Street, Suite 1000, Arlington, VA 22209-1953.”

Notification procedure:

Delete entry and replace with “Individuals seeking to determine if information about themselves is contained in this system of records should address written inquiries to Defense Human Resources Activity, CAP Senior Program Manager, 1700 N. Moore Street, Suite 1000, Arlington, VA 22209-1953.

Signed, written request should contain full name, CAP request number, and work telephone number.”

Record access procedures:

Delete entry and replace with “Individuals seeking access to records about themselves contained in this system should address written inquiries to the Office of the Secretary of Defense/Joint Staff, Freedom of Information Act Requester Service Center, Office of Freedom of Information, 1155 Defense Pentagon, Washington, DC 20301-1155.

Signed, written request should contain full name, federal agency, CAP request number, and work telephone number, and the name and number of this system of records notice.”

* * * * *

Record source categories:

Delete entry and replace with “Individual and vendor.”

* * * * *

[FR Doc. 2014-24754 Filed 10-17-14; 8:45 am]

BILLING CODE 5001-06-P